SECURITIES AND EXCHANGE COMMISSION

[Release No. 34-50338; File No. S7-05-04]

RIN 3235-AJ02

Collection Practices Under Section 31 of the Exchange Act

AGENCY: Securities and Exchange Commission.

ACTION: Notice of OMB approval of collection of information.

FOR FURTHER INFORMATION CONTACT: Michael Gaw, Senior Special Counsel, 202-942-0158, or Christopher Solgan, Attorney, 202-942-7937; Division of Market Regulation; Securities and Exchange Commission; 450 5th Street, NW., Washington, DC 20549-1001.

SUPPLEMENTARY INFORMATION: The Office of Management and Budget has approved the collection of information requirements titled “Rule 31—Section 31 transaction fees; Rule 31T—Temporary Rule regarding fiscal year 2004; Form R31—Form for reporting covered sales and covered round turn transactions under Section 31 of the Securities Exchange Act of 1934” (OMB Control No. 3235-0597). The Commission adopted Rules 31 and 31T and Form R31 in June 2004.¹

¹ See Securities Exchange Act Release No. 49928 (June 28, 2004), 69 FR 41060 (July 7, 2004).

Dated: September 9, 2004.
Margaret H. McFarland,
Deputy Secretary.

[FR Doc. 04-20845 Filed 9-15-04; 8:45 am]

BILLING CODE 8010-01-P